OFFICE OF THE UNITED STATES TRADE REPRESENTATIVE

COUNCIL ON ENVIRONMENTAL QUALITY

Request for Public Comment Regarding Implementation of Executive Order 13141: Environmental Review of Trade Agreements

AGENCY: Office of the United States Trade Representative and Council on Environmental Quality.

ACTION: Notice of request for written public comment.

SUMMARY: On November 16, 1999, President Clinton signed Executive Order 13141. 64 FR 63169 (Nov. 18, 1999). The Order states that the United States is committed to a policy of ongoing assessment and evaluation of the environmental impacts of trade agreements, and in certain instances, written environmental reviews. The Order directs the Office of the United States Trade Representative (USTR) and the Council on Environmental Quality (CEQ) to oversee implementation of the Order, including the development of procedures pursuant to the Order, in consultation with appropriate foreign policy, environmental, and economic agencies. For convenience, the text of the Order is reproduced below.

USTR and CEQ seek the written views of the public concerning the issues the agencies should consider with respect to implementing the Order, including such matters as: general views on how the environmental review process should work, mechanisms for involving the public, including the role of USTR's advisory committees in the process; timing and process for conducting a written environmental review for those agreements requiring it; and appropriate methodologies for assessing environmental impacts in the context of trade negotiations.

USTR and CEQ will use this information, in part, to develop implementing guidelines, with the goal of completing the guidelines by mid-year. USTR and CEQ also intend to hold a public hearing concerning the implementation of the Executive Order, and to request public comment on draft guidelines. The public will be notified of those opportunities in subsequent Federal Register notices.

DATE: Comments are due no later than April 7, 2000.

ADDRESSES: Comments must be submitted to Gloria Blue, Executive Secretary, Trade Policy Staff Committee, ATTN: Implementation of Executive Order 13141—Environmental Review of Trade Agreements, Office of the U.S. Trade Representative, room 122, 600 Seventeenth Street, NW., Washington, DC 20508.

FOR FURTHER INFORMATION CONTACT: Office of the U.S. Trade Representative, Environment and Natural Resources Section, telephone 202-395-7320 or Council on Environmental Quality, telephone 202-456-6224.

SUPPLEMENTARY INFORMATION: Executive Order 13141 provides as follows:

Environmental Review of Trade Agreements

By the authority vested in me as President by the Constitution and the laws of the United States of America, and in order to further the environmental and trade policy goals of the United States, it is hereby ordered as follows:

Section 1. Policy. The United States is committed to a policy of careful assessment and consideration of the environmental impacts of trade agreements. The United States will factor environmental considerations into the development of its grade negotiating objectives. Responsible agencies will accomplish these goals through a process of ongoing assessment and evaluation, and, in certain instances, written environmental reviews.

Sec. 2. Purpose and Need. Trade agreements should contribute to the broader goal of sustainable development. Environmental reviews are an important tool to help identify potential environmental effects of trade agreements, both positive and negative, and to help facilitate consideration of appropriate responses to those effects whether in the course of negotiations, through other means, or both.

Sec. 3 (a) Implementation. The United States Trade Representative (“Trade Representative”) and the Chair of the Council on Environmental Quality shall oversee the implementation of this order, including the development of procedures pursuant to this order, in consultation with appropriate foreign policy, environmental, and economic agencies.

(b) Conduct of Environmental Reviews. The Trade Representative, through the interagency Trade Policy Staff Committee (TPSC), shall conduct the environmental reviews of the agreements under section 4 of this order.

Sec. 4. Trade Agreements.

(a) Certain agreements which the United States may negotiate shall require an environmental review. These include:

(i) comprehensive multilateral trade rounds;

(ii) bilateral or plurilateral free trade agreements; and

(iii) major new trade liberalization agreements in natural resource sectors.

(b) Agreements reached in connection with enforcement and dispute resolution actions are not covered by this order.

(c) For trade agreements not covered under subsections 4 (a) and (b), environmental reviews will generally not be required. Most sectoral liberalization agreements will not require an environmental review. The Trade Representative, through the TPSC, shall determine whether an environmental review of an agreement or category of agreements is warranted based on such factors as the significance of reasonably foreseeable environmental impacts.

Sec. 5. Environmental Reviews.

(a) Environmental reviews shall be:

(i) written;

(ii) initiated through a Federal Register notice, outlining the proposed agreement and soliciting public comment and information on the scope of the environmental review of the agreement;

(iii) undertaken sufficiently early in the process to inform the development of negotiating positions, but shall not be a condition for the timely tabling of particular negotiating proposals;

(iv) made available in draft form for public comment, where practicable; and

(v) made available to the public in final form.

(b) As a general matter, the focus of environmental reviews will have impacts in the United States. As appropriate and prudent, reviews may also examine global and transboundary impacts.

Sec. 6. Resources. Upon request by the Trade Representative, Federal agencies shall, to the extent permitted by law and subject to the availability of appropriations, provide analytical and financial resources and support, including the detail of appropriate personnel, to the Office of the Trade Representative to carry out the provisions of this order.

Sec. 7. General Provisions. This order is intended only to improve the internal management of the executive branch and does not create any right, benefit, trust, or responsibility, substantive or procedural, enforceable at law or equity by a party against the United States, its agencies, its officers, or any person.

The White House

SUBMISSION OF WRITTEN COMMENTS: Persons wishing to submit written comments in response to this notice should provide 20 copies no later than 45 days from the date of this notice to Gloria Blue, Executive Secretary, Trade Policy Staff Committee, ATTN: Implementation of Executive Order 13141—Environmental Review of Trade Agreements, Office of the U.S. Trade Representative, room 122, 600 Seventeenth Street, NW, Washington, DC 20508.

Submissions will be available for public inspection at the USTR Reading Room, Room 101, Office of the U.S. Trade Representative, 600 Seventeenth Street, NW, Washington, D.C. An appointment to review the file may be made by calling Brenda Webb at (202) 395-6186. The Reading Room is open to the public from 10 a.m. to 12 noon and from 1 p.m. to 4 p.m., Monday through Friday.

Carmen Suro-Bredie,
Acting Chair, Trade Policy Staff Committee.
Dinah Bear,
General Counsel, Council on Environmental Quality.

[FR Doc. 00-4151 Filed 2-18-00; 8:45 am]

BILLING CODE 3190-01-M